DEPARTMENT OF COMMERCE

Patent and Trademark Office

[Docket No. PTO-P-2016-0046]

Reopening of the Period for Comments on a Preliminary Draft Convention on the Recognition and Enforcement of Foreign Judgments Currently Being Negotiated at The Hague Conference on Private International Law

AGENCY: United States Patent and Trademark Office, Department of Commerce.

ACTION: Reopening of the comment period.

SUMMARY: The United States Patent and Trademark Office is publishing this notice to reopen the comment period provided in its notice of November 18, 2016, entitled Request for Comments and Notice of Public Meeting on a Preliminary Draft Convention on the Recognition and Enforcement of Foreign Judgments Currently Being Negotiated at the Hague Conference on Private International Law. The new deadline for public comments is January 18, 2017.

DATES: Written Comments: Written comments must be received on or before January 18, 2017.

ADDRESSES: Written Comments: Interested parties are encouraged to file written comments electronically by email to judgmentsproject@uspto.gov. Comments submitted by email should be machine-searchable and should not be copy-protected. Written comments also may be submitted by mail to the Office of Policy and International Affairs, United States Patent and Trademark Office, Mail Stop International Affairs, P.O. Box 1450, Alexandria, Virginia 22313-1450. Responders should include the name of the person or organization filing the comment, as well as a page number, on each page of their submissions. Paper submissions should also include a CD or DVD containing the submission in MS Word®, WordPerfect®, or pdf format. CDs or DVDs should be labeled with the name and organizational affiliation of the filer, and the name of the word processing program used to create the document. All personally identifiable information (for example, name, address, etc.) voluntarily submitted by the commenter may be publicly accessible. Do not submit confidential business information or otherwise sensitive or protected information. The USPTO will accept anonymous written comments (enter “N/A” in the required fields if you wish to remain anonymous).

All comments received are part of the public record and will be available for public inspection without change via the USPTO's Web site at www.uspto.gov/learning-and-resources/ip-policy/hague-conference-private-international-law and at the Office of the Director, Policy and International Affairs, located in Madison West, Tenth Floor, 600 Dulany Street, Alexandria, Virginia 22314, upon request. Because comments will be available for public inspection, information that is not desired to be made public, such as name, an address or phone number, etc., should not be included in the written comments.

FOR FURTHER INFORMATION CONTACT: Requests for additional information should be directed to the attention of Michael Shapiro, Senior Counsel, Office of Policy and International Affairs, USPTO, by telephone at 571-272-9300, or by email to judgmentsproject@uspto.gov.

SUPPLEMENTARY INFORMATION:

Background

The Hague Conference on Private International Law (“The Hague Conference”), an international organization in the Netherlands, is sponsoring negotiations for a convention on the recognition and enforcement of foreign judgments in civil and commercial matters. In February 2016, the Council on General Affairs and Policy of The Hague Conference created a Special Commission on the Recognition and Enforcement of Foreign Judgments (“the Special Commission”) to prepare a preliminary draft text of the convention, which is subject to a formal diplomatic negotiation open to member States of The Hague Conference. At its first session in June 2016, the Special Commission produced a Preliminary Draft Convention that includes general and specific provisions that would apply to the recognition and enforcement of judgments arising from transnational intellectual property disputes.

On November 18, 2016, the United States Patent and Trademark Office (USPTO) requested public comments on the June 2016 Preliminary Draft Convention (the “Preliminary Draft”) as it relates to intellectual property matters (81 FR 81741 (Nov. 18, 2016)), with the comment period ending on January 9, 2017. The USPTO is now reopening the comment period to ensure that all stakeholders have sufficient opportunity to submit comments. The new deadline for submitting public comments is January 18, 2017. Any comments received between the close of the previous deadline of January 9, 2017, and January 13, 2017 will be treated as timely and given full consideration.

Further information about the Preliminary Draft, as well as questions about the draft that the USPTO presented for consideration, are set forth in the earlier notice requesting comments (81 FR 81741 (Nov, 18, 2016)).

Dated: January 9, 2017.
Michelle K. Lee,
Under Secretary of Commerce for Intellectual Property and Director of the United States Patent and Trademark Office.

[FR Doc. 2017-00671 Filed 1-12-17; 8:45 am]

BILLING CODE 3510-16-P